DEPARTMENT OF AGRICULTURE

U.S. Forest Service

Nez Perce-Clearwater National Forests; Idaho; Johnson Bar Fire Salvage Project

AGENCY: Forest Service, USDA.

ACTION: Notice of Intent (NOI) to prepare a Supplemental Environmental Impact Statement (SEIS) for the Johnson Bar Fire Salvage Project.

SUMMARY: The U.S. Forest Service is giving notice of its intent to prepare a SEIS for the Johnson Bar Fire Salvage Project on the Nez Perce-Clearwater National Forests, Moose Creek Ranger District, Idaho. A complaint was filed on 11 March 2016 against the February 2016 Johnson Bar Salvage Record of Decision (ROD) and a Preliminary Injunction was granted by the United States District Court for the State of Idaho on 12 May 2016. This SEIS will provide additional analysis in response to the Preliminary Injunction.

FOR FURTHER INFORMATION CONTACT: Sheila D. Lehman, NEPA Planner/Interdisciplinary Team Leader, (208) 935-4256.

SUPPLEMENTARY INFORMATION: The U.S. Forest Service is announcing its intent to prepare a SEIS for the Johnson Bar Fire Salvage Project. The SEIS will supplement the analysis from the Johnson Bar Fire Salvage EIS by providing an updated analysis of the environmental effects. The Johnson Bar Fire Salvage Final EIS evaluated the potential effects of four alternatives, which included the No Action, Proposed Action, and two additional alternatives. The units possessing viable harvest potential will be carried forward for analysis in this SEIS.

The Nez Perce-Clearwater Forest Supervisor will issue a new ROD after evaluating the SEIS and public comments. An objection period for the new ROD will be provided, consistent with 36 CFR part 218.

Authority: This NOI is being published pursuant to regulations (40 CFR 1508.22) implementing the procedural provisions of the National Environmental Policy Act (NEPA) of 1969, as amended (42 U.S.C. 4321 et seq.).

Scoping: A NOI published on 24 October 2014 initiated the scoping period for the Johnson Bar Salvage project. A legal notice advertising the start of a 30-day scoping period was advertised in the Lewiston, Idaho Lewiston Tribune on 29 October 2014. In accordance with 40 CFR 1502.9(c)(4), there will be no scoping conducted for this SEIS. The scope of the Final Johnson Bar Fire Salvage EIS and the Preliminary Injunction decision by the District Court of the Ninth Circuit establish the scope for this SEIS.

The SEIS will be advertised for public comment as required by 40 CFR 1503.1. The Draft SEIS will be announced for public review and comment in the Federal Register, on the Nez Perce-Clearwater National Forests' project Web site (http://data.ecosystem- management.org/nepaweb/nepa_project_exp.php?project=45214), and in the Lewiston, Idaho Lewiston Tribune, as well as other local media.

Responsible Official and Lead Agency

The USDA Forest Service is the lead agency for this proposal. The Nez Perce—Clearwater Forest Supervisor is the responsible official.

Decision to Be Made is whether to adopt the proposed action, in whole or in part, or another alternative; and what mitigation measures and management requirements will be implemented.

Dated: September 7, 2016.
Cheryl F. Probert,
Forest Supervisor.

[FR Doc. 2016-22318 Filed 9-15-16; 8:45 am]

BILLING CODE 3411-15-P